DEPARTMENT OF TRANSPORTATION

Federal Aviation Administration

Notice of Intent To Rule on the Change of Use of Aeronautical Property at Coastal Carolina Regional Airport, New Bern, NC

AGENCY: Federal Aviation Administration (FAA), DOT.

ACTION: Request for public comment.

SUMMARY: The Federal Aviation Administration is requesting public comment on a request by the Coastal Carolina Regional Airport to change the use of a portion of airport property at the Coastal Carolina Regional Airport. The request consists of approximately 11.7 acres for use as a future non-aeronautical development area. This action is taken under the provisions of Section 125 of the Wendell H. Ford Aviation Investment Reform Act for the 21st Century (AIR 21).

DATES: Comments must be received on or before August 21, 2015.

ADDRESSES: Documents are available for review at the Coastal Carolina Regional Airport, 200 Terminal Drive, New Bern, NC 28564; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Tom Braaten, Airport Director, Coastal Carolina Regional Airport Authority, 200 Terminal Drive, P.O. Box 3258, New Bern, NC 28564.

FOR FURTHER INFORMATION CONTACT: Mr. Michael L. Thompson, Program Manager, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to change the designation of property currently reserved for aeronautical use to non-aeronautical use at Coastal Carolina Regional Airport, New Bern, NC 28564 under the provisions of AIR 21 (49 U.S.C. 47107(h)(2)).

On July 15, 2015, the FAA determined that the request to release property for non-aeronautical purposes at Coastal Carolina Regional Airport meets the procedural requirements of the Federal Aviation Administration. The FAA may approve the request, in whole or in part, no later than August 21, 2015.

The following is a brief overview of the request:

The Coastal Carolina Regional Airport is proposing to change the designation of property reserved for aeronautical use to a designation of non-aeronautical use to make the property available for future non-aeronautical development. This property consists of 11.7 acres along the Old Airport Road starting south of the current airport access road and extending approximately 1,200 feet south of that point. The airport is not proposing the sale of the property.

Any person may inspect, by appointment, the request in person at the FAA office listed above under FOR FURTHER INFORMATION CONTACT.

Issued in Memphis, TN on July 15, 2015.
Phillip Braden,
Manager, Memphis Airports District Office.

[FR Doc. 2015-17874 Filed 7-21-15; 8:45 am]

BILLING CODE 4910-13-P